DEPARTMENT OF THE TREASURY

Alcohol and Tobacco Tax and Trade Bureau

27 CFR Part 9

[Docket No. TTB-2021-0006; Notice No. 203]

RIN: 1513-AC83

Proposed Establishment of the Rocky Reach Viticultural Area

AGENCY: Alcohol and Tobacco Tax and Trade Bureau, Treasury.

ACTION: Notice of proposed rulemaking.

SUMMARY: The Alcohol and Tobacco Tax and Trade Bureau (TTB) proposes to establish the 50-square mile “Rocky Reach” American viticultural area (AVA) in portions of Chelan and Douglas Counties, Washington. The proposed AVA is located entirely within the existing Columbia Valley AVA. TTB designates viticultural areas to allow vintners to better describe the origin of their wines and to allow consumers to better identify wines they may purchase. TTB invites comments on these proposals.

DATES: TTB must receive your comments on or before September 13, 2021.

ADDRESSES: You may electronically submit comments to TTB on this proposal using the comment form for this document as posted within Docket No. TTB-2021-0006 on the Regulations.gov website at https://www.regulations.gov. Within that docket, you also may view copies of this document, its supporting materials, and any comments TTB receives on this proposal. A direct link to that docket is available on the TTB website at https://www.ttb.gov/wine/notices-of-proposed-rulemaking under Notice No. 203. Alternatively, you may submit comments via postal mail to the Director, Regulations and Ruling Division, Alcohol and Tobacco Tax and Trade Bureau, 1310 G Street NW, Box 12, Washington, DC 20005. Please see the Public Participation section below for further information on the comments requested regarding this proposal and on the submission, confidentiality, and public disclosure of comments.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Petition To Establish the Rocky Reach AVA

TTB received a petition from Dr. Kevin Pogue, a professor of geology at Whitman College, proposing to establish the “Rocky Reach” AVA. Dr. Pogue submitted the petition on behalf of local vineyard owners and winemakers. The proposed AVA is located in Chelan and Douglas Counties, Washington, and is entirely within the existing Columbia Valley AVA (27 CFR 9.74). The petition notes that, although the proposed AVA covers 50 square miles, the Columbia River and the Rocky Reach Reservoir constitute approximately 24 percent of the total area. Within the proposed AVA, there are 7 commercial vineyards which cover a total of 117 acres. The distinguishing features of the proposed Rocky Reach AVA are its topography, geology, soils, and climate.

Proposed Rocky Reach AVA

Name Evidence

The proposed Rocky Reach AVA takes its name from the Rocky Reach Dam and the Rocky Reach Reservoir (also known as Lake Entiat), both of which are within the proposed AVA. Steamboat captains first applied the name “Rocky Reach” to the region in the late 1800's, to describe the rapids within a stretch, or “reach,” of the Columbia River. The petition included other examples of current use of the name “Rocky Reach” to describe the region of the proposed AVA. For example, the Rocky Reach Trail is a recreational trail within the proposed AVA, and the Rocky Reach Discovery Center provides educational and informational exhibits to visitors in the region. Rocky Reach Estates is a residential development within the proposed AVA. Finally, a local newspaper article refers to a 2018 wildfire in the region of the proposed AVA as the “Rocky Reach Fire.”

Boundary Evidence

The proposed Rocky Reach AVA is located along both sides of the Columbia River and the Rocky Reach Reservoir in the western portion of the established Columbia Valley AVA. The proposed eastern and western boundaries are parallel to the Columbia River and follow elevation contours that approximate the extent of the river terraces. The northern boundary approximates the southernmost extent of the Cordilleran ice sheet during the last ice age glaciation, beyond which the geology and soils change. The southern boundary approximates the southern limit of exposures of metamorphic bedrock along the Columbia River and is also near the northern limit of urbanization associated with the cities of Wenatchee and East Wenatchee.

Distinguishing Features

According to the petition, the distinguishing features of the proposed Rocky Reach AVA are its topography, geology, soils, and climate.

Topography

The proposed Rocky Reach AVA is located along a stretch of the Columbia River where the river has eroded a deep canyon between the foothills of the Cascade Range to the west and the Waterville Plateau and Badger Mountain to the east. Flat-topped terraces are located near the floor of the canyon and low along the canyon sides. Elevations within the proposed AVA are below 1,600 feet. According to the petition, the level terraces within the proposed AVA have long been used for agricultural purposes, including viticulture, due to the ease of farming on the nearly-level ground.

West of the proposed AVA, elevations rise rapidly to over 3,000 feet, and the terrain is rugged and mountainous. To the east of the proposed AVA, elevations are also higher, rising to an average of 2,500 feet on the Waterville Plateau. According to the petition, the terrain is also much steeper to the east of the proposed AVA. To the north of the proposed AVA, within the established Lake Chelan AVA (27 CFR 9.215), glaciers eroded a deep and broad glacial trough that is now filled by Lake Chelan. South of the proposed AVA, the valley of the Columbia River abruptly widens where the bedrock changes from hard, erosion-resistant metamorphic rocks to much softer sedimentary rocks.

Geology

According to the petition, 95 percent of the surface bedrock within the established Columbia Valley AVA consists of Cenozoic volcanic and sedimentary rock, predominantly Miocene Columbia River basalt, which is silica-poor and iron-rich. However, within the proposed Rocky Reach AVA, Columbia River erosion has removed the basalt and carved a deep valley into the underlying Mesozoic crystalline basement rocks. According to the petition, the region north of the proposed AVA, specifically the established Lake Chelan AVA, is the only other region within the Columbia River AVA that has this crystalline basement bedrock. These rocks consist primarily of metamorphosed sedimentary and igneous rocks that are silica-rich and dominated by minerals like quartz and mica that are not found in the regions to the east, south, and west of the proposed AVA, which have basalt bedrock. As a result, grapevine roots that reach the bedrock of the proposed AVA come into contact with a chemical environment that is distinct from that associated with basalt bedrock.

Soils

The petition states the soils of the proposed AVA formed from wind-deposited sand and silt overlying cobblestone gravel, and sand deposited by ice-age floods. The soils are typically clay-poor and well- to excessively-well drained. The thickness of the sand and silt is generally greater on the higher terraces within the proposed AVA, as their greater age has allowed more time for soils to be deposited. Most of the vineyards in the proposed AVA are on the lower terraces, where the soils are very coarse-grained and consist largely of cobblestones deposited by glacial floods and outwash. According to the petition, the stony surfaces of the lower terraces warm quickly, and the hot stones radiate heat to the vines and promote faster and more complete ripening. The coarser soils also more efficiently transmit water to deeper soil horizons, which encourages vines planted in those soils to have deeper roots than vines planted in silty or sandy soils. Finally, the petition notes that vineyards in the stony soils do not require the use of cover crops since erosion is not an issue due to the coarse texture.

To the north of the proposed AVA, the soils of the glaciated valleys formed from glacial till, which is sediment deposited directly by melting glacial ice. The soils also contain volcanic ash and pumice, which are uncommon within the proposed Rocky Reach AVA. Loess and sand dominate the soils in the regions of the Columbia Valley AVA that are to the south and east of the proposed AVA. These soils are finer than the coarse-grained sands of the proposed AVA and contain a basalt substratum that is lacking in soils within the proposed AVA. The petition did not include soil information for the region west of the proposed AVA.

Climate

The proposed Rocky Reach AVA is located at low elevations within the deep valley of the Columbia River. According to the petition, the low elevations allow the proposed AVA to have a warmer and longer growing season than the higher elevations of the surrounding mountains and plateaus. The petition included information on the average temperature, extreme minimum and maximum temperatures, average maximum and minimum temperatures, and average soil temperatures from two locations within the proposed AVA, two locations north of the proposed AVA, and one location to the east of the proposed AVA. The data from within and to the north of the proposed AVA was collected from 2015-2017, while data from the region to the east was only available for 2017. Temperature data was not provided for the regions to the west or south of the proposed AVA.

Table 1—Temperatures in Degrees Fahrenheit (F)
Weather station (direction from proposed AVA) | Average temperature | Average minimum temperature | Average maximum temperatures | Extreme minimum temperature | Extreme maximum temperature | Average soil temperature
2015
Boyd District (north) | 62.8 | 50.8 | 75.6 | 31.3 | 105.4 | 68.1
Chelan South (north) | 66.1 | 56.1 | 77.3 | 34.6 | 104.6 | 68.5
Brays Landing (within) | 64.7 | 51.5 | 77.9 | 32.2 | 107.4 | 69.6
Orondo (within) | 67.4 | 54.9 | 81.3 | 34.4 | 108.9 | 71.2
2016
Boyd District (north) | 60.8 | 49 | 73 | 30.2 | 96.7 | 66.8
Chelan South (north) | 64.2 | 54.3 | 75.1 | 34.1 | 100.1 | 65.7
Brays Landing (within) | 63 | 50.2 | 75.5 | 29.2 | 100.4 | 67.3
Orondo (within) | 65.7 | 53.7 | 78.6 | 35 | 103 | 69
2017
Boyd District (north) | 60.3 | 48.2 | 73.3 | 29.9 | 100 | 66.1
Chelan South (north) | 63.6 | 53.5 | 75 | 34.1 | 101.3 | 65.6
Brays Landing (within) | 62.4 | 49.1 | 75.8 | 29.7 | 102.5 | 66.7
Orondo (within) | 64.9 | 52.7 | 78.3 | 32.5 | 103.5 | 68.9
Waterville North (east) | 57.8 | 47.8 | 68.1 | 28.7 | 95.2 | 62.5

The data indicates that the proposed Rocky Reach AVA generally has warmer average annual temperatures than the regions to the north, as well as higher maximum temperatures. Although the data suggests that the region to the east of the proposed AVA is cooler than the proposed AVA, the data is only from one year. Therefore, TTB is unable to determine if temperature does in fact distinguish the proposed AVA from the region to the east.

Summary of Distinguishing Features

The following table summarizes the characteristics of the proposed Rocky Reach AVA and the surrounding regions.

Table 2—Summary of Distinguishing Features
Location | Topography | Geology | Soils | Climate
Proposed Rocky Reach AVA | Canyon floor of the Columbia River, with flat-topped terraces and elevations below 1,600 feet | Mesozoic crystalline basement bedrock that is high in silica, mica, and quartz | Wind-deposited sand and silt over cobblestone gravel and sand deposited by ice-age floods; clay-poor; well- to excessively well-drained | Warmer average annual temperatures than the regions to the north, as well as higher maximum temperatures.
North | Deep, broad glacial trough | Mesozoic crystalline basement bedrock that is high in silica, mica, and quartz | Soils formed from glacial till; contains volcanic ash and pumice | Cooler temperatures.
East | Waterville Plateau with elevations of an average of 2,500 feet and steep slopes | Cenozoic volcanic and sedimentary rock that is silica-poor and high in iron | Loess and sand; fine-grained, and contains a basalt substratum that is lacking in soils within the proposed AVA | Insufficient data to determine if climate is distinguishable for this region.
South | Valley of the Columbia River widens abruptly | Cenozoic volcanic and sedimentary rock that is silica-poor and high in iron | Loess and sand; fine-grained, and contains a basalt substratum that is lacking in soils within the proposed AVA | Not provided.
West | Rugged mountains with elevations over 3,000 feet | Cenozoic volcanic and sedimentary rock that is silica-poor and high in iron | Not provided | Not provided.

Comparison of the Proposed Rocky Reach AVA to the Existing Columbia Valley AVA

The Columbia Valley AVA was established by T.D. ATF-190, which published in the Federal Register on November 13, 1984 (49 FR 44895). T.D. ATF-190 describes the Columbia Valley AVA as a large, treeless basin surrounding the Yakima, Snake, and Columbia Rivers. Growing season lengths within the Columbia Valley AVA are over 150 days, and annual precipitation amounts are less than 15 inches. Elevations within the Columbia Valley AVA are below 2,000 feet.

The proposed Rocky Reach AVA shares some of the general viticultural features of the larger Columbia Valley AVA. For instance, elevations within the proposed AVA are below 2,000 feet, and much of the proposed AVA is relatively flat. The petition also states that the proposed AVA also has a growing season longer than 150 days. However, the proposed AVA also has characteristics that distinguish it from the larger Columbia Valley AVA. For example, the proposed AVA lacks the basalt bedrock and loess-based soils that define most of the Columbia Valley AVA. Additionally, although the terrain within the proposed AVA is relatively flat, it is within a deep canyon of the Columbia River, rather than on a broad plain.

TTB Determination

TTB concludes that the petition to establish the 50-square mile “Rocky Reach” AVA merits consideration and public comment, as invited in this document.

Boundary Description

See the narrative boundary descriptions of the petitioned-for AVA in the proposed regulatory text published at the end of this document.

Maps

The petitioner provided the required maps, and they are listed below in the proposed regulatory text. You may also view the proposed Rocky Reach AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

If TTB establishes this proposed AVA, its name, “Rocky Reach,” will be recognized as a name of viticultural significance under § 4.39(i)(3) of the TTB regulations (27 CFR 4.39(i)(3)). The text of the proposed regulation clarifies this point. Consequently, wine bottlers using “Rocky Reach” in a brand name, including a trademark, or in another label reference as to the origin of the wine, would have to ensure that the product is eligible to use the AVA name as an appellation of origin if this proposed rule is adopted as a final rule. The approval of the proposed Rocky Reach AVA would not affect any existing AVA, and any bottlers using “Columbia Valley” as an appellation of origin, or in a brand name, for wines made from grapes grown within the Rocky Reach AVA would not be affected by the establishment of this new AVA. If approved, the establishment of the proposed Rocky Reach AVA would allow vintners to use “Rocky Reach” or “Columbia Valley” as appellations of origin for wines made from grapes grown within the proposed Rocky Reach AVA, if the wines meet the eligibility requirements for the appellation.

Public Participation

Comments Invited

TTB invites comments from interested members of the public on whether TTB should establish the proposed Rocky Reach AVA. TTB is interested in receiving comments on the sufficiency and accuracy of the name, boundary, topography, geology, soils, and climate, and other required information submitted in support of the AVA petition. In addition, because the proposed Rocky Reach AVA would be within the existing Columbia Valley AVA, TTB is interested in comments on whether the evidence submitted in the petition regarding the distinguishing features of the proposed AVA sufficiently differentiates it from the existing Columbia Valley AVA. TTB is also interested in comments on whether the geographic features of the proposed Rocky Reach AVA are so distinguishable from the Columbia Valley AVA that the proposed AVA should not be part of the established AVA. Please provide any available specific information in support of your comments.

Because of the potential impact of the establishment of the proposed Rocky Reach AVA on wine labels that include the term “Rocky Reach” as discussed above under Impact on Current Wine Labels, TTB is particularly interested in comments regarding whether there will be a conflict between the proposed area names and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal as an individual or on behalf of a business or other organization via the Regulations.gov website or via postal mail, as described in the ADDRESSES section of this document. Your comment must reference Notice No. 203 and must be submitted or postmarked by the closing date shown in the DATES section of this document. You may upload or include attachments with your comment. You also may submit a comment requesting a public hearing on this proposal. The TTB Administrator reserves the right to determine whether to hold a public hearing.

Confidentiality and Disclosure of Comments

All submitted comments and attachments are part of the rulemaking record and are subject to public disclosure. Do not enclose any material in your comments that you consider confidential or that is inappropriate for disclosure.

TTB will post, and you may view, copies of this document, the related petition, supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions regarding comments on this proposal or to request copies of this document, its supporting materials, or the comments received.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this document.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Rocky Reach.

(a) Name. The name of the viticultural area described in this section is “Rocky Reach”. For purposes of part 4 of this chapter, “Rocky Reach” is a term of viticultural significance.

(b) Approved maps. The 8 United States Geological Survey (USGS) 1:24,000 scale topographic maps used to determine the boundary of the viticultural area are titled:

(1) Ardenvoir, WA, 2003;

(2) Chelan, WA, 2004;

(3) Entiat, WA, 2003;

(4) Orondo, WA, 2003;

(5) Rocky Reach Dam, WA, 2003;

(6) Waterville, WA, 2014;

(7) Wenatchee, WA, 2003; and

(8) Winesap, WA, 2004.

(c) Boundary. The Rocky Reach viticultural area is located in Chelan and Douglas Counties in Washington. The boundary of the Rocky Reach viticultural area is as described in paragraphs (c)(1) through (13) of this section:

(1) The beginning point is on the Wenatchee map at the intersection of the 1,200-foot elevation contour and the western boundary of section 15, T23N/R20E. From the beginning point, proceed northeast along the 1,200-foot elevation contour, crossing over the Rocky Reach Dam map and onto the northwest corner of the Orondo map; then

(2) Continue northeasterly, then southwesterly along the 1,200-foot elevation contour, crossing back onto the Rocky Reach Dam map and continuing southwesterly along the 1,200-foot elevation contour to its intersection with the unnamed creek flowing from Spencer Lake; then

(3) Proceed northeasterly along the 1,200-foot elevation contour, crossing over the unnamed creek and continuing across the southeastern corner of the Ardenvoir map and onto the Entiat map; then

(4) Continue northeasterly then westerly along the 1,200-foot elevation contour, crossing back onto the Ardenvoir map, and continuing along the elevation contour to its intersection with the R20E/R21E boundary, which is concurrent with the western boundary of section 18, T25N/R21E; then

(5) Proceed north along the R20E/R21E boundary, crossing over the Entiat River and the Entiat Ditch, to the intersection of the range boundary and the 1,200-foot elevation contour; then

(6) Proceed easterly along the 1,200-foot elevation contour, crossing onto the Winesap map, and continuing northeasterly along the 1,200-foot elevation contour to its intersection with the boundary between sections 11 and 12, T26N/R21E; then

(7) Proceed north along the boundary between sections 11 and 12 for approximately 300 feet to its intersection with the 1,400-foot elevation contour; then

(8) Proceed northeast, then south, then easterly along the 1,400-foot elevation contour, crossing Knapp Coulee and onto the Chelan map, and continuing east along the 1,400-foot elevation contour to its intersection with the northern boundary of section 1, T26N/R22E; then

(9) Proceed south-southeasterly in a straight line, crossing the Columbia River, to the intersection of the 1,600-foot elevation contour and the R22E/R23E boundary; then

(10) Proceed generally westerly along the 1,600-foot elevation contour, crossing over the southeastern corner of the Winesap map and onto the Entiat map, and continuing southwesterly along the 1,600-foot elevation contour to its intersection with an unnamed stream in section 35, T26N/R21E; then

(11) Proceed westerly (downstream) along the unnamed stream for 0.45 mile to its intersection with the 1,200-foot elevation contour; then

(12) Proceed southerly along the 1,200-foot elevation contour, crossing over the Orondo map and onto the Wenatchee map to the intersection of the elevation contour with the southern boundary of section 14, T23N/R20E; then

(13) Proceed west-northwest in a straight line for 1.47 miles, crossing the Columbia River, to the beginning point.

Signed: June 21, 2021.
Mary G. Ryan,
Administrator.
Approved: June 21 2021.
Timothy E. Skud,
Deputy Assistant Secretary (Tax, Trade, and Tariff Policy).

[FR Doc. 2021-15054 Filed 7-14-21; 8:45 am]

BILLING CODE 4810-31-P